DEPARTMENT OF HOMELAND SECURITY

Coast Guard

33 CFR Part 165

[Docket Number USCG-2017-0118]

RIN 1625-AA00

Safety Zone; Columbia River, Sand Island, WA

Correction

In rule document 2017-04196, appearing on pages 12416 through 12418, in the issue of Friday, March 3, 2017, make the following correction:

On page 12417, in the first column, on the fourteenth line from the bottom of the page, “46°5′5″ N.” should read, “46°15′45″ N.”.

[FR Doc. C1-2017-04196 Filed 4-7-17; 8:45 am]

BILLING CODE 1301-00-D